DEPARTMENT OF AGRICULTURE

Office of the Secretary

Collaborative Forest Restoration Program Technical Advisory Panel

AGENCY: Forest Service, USDA.

ACTION: Call for nominations.

SUMMARY: The United States Department of Agriculture (USDA) is seeking nominations for the Collaborative Forest Restoration Program (CFRP) Technical Advisory Panel (Panel) pursuant to Section 606 of the Community Forest Restoration Act (Act) (Pub. L. 106-393), and the Federal Advisory Committee Act (FACA), (5 U.S.C. App. 2). Additional information on the Panel can be found by visiting the Panel's Web site at: http://www.fs.usda.gov/goto/r3/cfrp.

DATES: Written nominations must be received by March 11, 2016. Nominations must contain a completed application packet that includes the nominee's name, resume, and completed Form AD-755 (Advisory Committee or Research and Promotion Background Information). The package must be sent to the address below.

ADDRESSES: Walter Dunn, Collaborative Forest Restoration Program, USDA Forest Service, 333 Broadway Blvd. SE., Albuquerque, New Mexico 87102.

FOR FURTHER INFORMATION CONTACT: Walter Dunn, Designated Federal Officer (DFO), Collaborative Forest Restoration Program Technical Advisory Panel, by telephone at (505) 842-3425, or by email at wdunn@fs.fed.us. Individuals who use telecommunication devices for the deaf (TDD) may call the Federal Information Relay Service (FIRS) at 1-800-877-8339 between 8 a.m. and 5 p.m., Eastern Standard Time, Monday through Friday.

SUPPLEMENTARY INFORMATION:

Background

In accordance with the provisions of FACA, the Secretary of Agriculture is seeking nominations to fill positions representing a New Mexico State Natural Resource agency, Federal land management agencies, tribes or pueblos, commodity interests, and local communities on the Panel. The purpose of the Panel is to provide recommendations to the Secretary of Agriculture on which grant proposals submitted pursuant to the Act best meet the CFRP objectives. The CFRP provides cost-share grants to community and stakeholder groups for forest restoration projects that are designed through a collaborative process. The projects must be in New Mexico, and may be entirely on, or on any combination of, Federal, tribal, State, county, or municipal forest lands. The CFRP supports the development of cost effective restoration activities; empowers diverse organizations to implement activities that value local and traditional knowledge; builds ownership and civic pride; and contributes to the restoration of healthy, diverse, and productive forests and watersheds.

Vacancy

Seven representatives including a New Mexico State Natural Resource agency, at least two Federal land management agencies, at least one tribe or pueblo, and an equal number of commodity interests, and local communities will be appointed by the Secretary to serve 2 to 3 year terms. Vacancies will be filled in the manner in which the original appointment was made.

Nomination and Application Instructions

To be considered for membership on the Panel nominees must be United States citizens and be at least 18 years of age. The public is invited to submit nominations for membership on the Panel, either as a self-nomination or a nomination of any qualified and interested person. The appointment of members to the Panel is made by the Secretary of Agriculture. Any individual or organization may nominate one or more qualified persons to represent the above Panel vacancies. To be considered for membership, nominees must provide the following:

1. Resume describing qualifications for membership to the Panel;

2. Cover letter with a rationale for serving on the Panel and what you can contribute; and

3. Complete Form AD-755, Advisory Committee Membership Background Information. The Form AD-755 may be obtained from the DFO or from the Panel's Web site. The Form AD-755 and resume should address the following evaluation criteria:

(a) Knowledge of forest management issues in New Mexico;

(b) Experience working with government planning process;

(c) Knowledge and understanding of the various cultures and communities in New Mexico;

(d) Ability to actively participate in diverse team settings; and

(e) Demonstrated skill in working toward mutually beneficial solutions to complex issues.

Letter of recommendations are welcome. All nominations will be vetted by USDA. A list of qualified applicants from which the Secretary of Agriculture shall appoint members to the Panel will be prepared. Members of the Panel will serve without compensation, but may be reimbursed for travel expenses while performing duties on behalf of the Panel, subject to approval by the DFO.

Equal opportunity practices in accordance with USDA policies shall be followed in all appointments to the Panel. To ensure that the recommendations of the Panel have taken into account the needs of the diverse groups served by USDA, membership will, to the extent practicable, include individuals with demonstrated ability to represent all racial and ethnic groups, women and men, and persons with disabilities.

Dated: January 29, 2016.
Gregory L. Parham,
Assistant Secretary for Administration.

[FR Doc. 2016-02622 Filed 2-9-16; 8:45 am]

BILLING CODE 3411-15-P